FEDERAL COMMUNICATIONS COMMISSION

47 CFR Part 73

[DA 05-289; MB Docket No. 05-35; RM-11134]

Radio Broadcasting Services; Charlotte and Jackson, MI

AGENCY: Federal Communications Commission.

ACTION: Proposed rule.

SUMMARY: This document requests comments on a petition for rule making filed by Rubber City Radio Group (“Petitioner”), licensee of Station WJXQ(FM), Channel 291B, Jackson, Michigan. Petitioner requests that the Commission reallot Channel 291B from Jackson to Charlotte, Michigan. This request is filed to maintain a first local service at Charlotte, Michigan. If this petition is granted it will eliminate a potential conflict between two licensees in another rulemaking proceeding (MB Docket No. 03-222) who propose to move from Charlotte to two other cities in Michigan. The two proposals in that proceeding are not in technical conflict, but would conflict with the Commission's policy of maintaining local service in a community that might otherwise lose local transmission service. Petitioner will retain the same transmitter site when its station is reallotted to Charlotte. The coordinates for Channel 291B at Charlotte, Michigan are 42-23-28 NL and 84-37-22 WL, with a site restriction of 30 kilometers (16.1 miles) southeast of Charlotte.

DATES: Comments must be filed on or before March 28, 2005, and reply comments on or before April 12, 2005.

ADDRESSES: Secretary, Federal Communications Commission, 445 12th Street, SW., Room TW-A325, Washington, DC 20554. In addition to filing comments with the FCC, interested parties should serve Petitioner's counsel, as follows: Mark N. Lipp, Esq. and Scott Woodworth, Esq., Vinson & Elkins LLP; 1455 Pennsylvania Ave., NW., Suite 600; Washington, DC 20004-1008.

FOR FURTHER INFORMATION CONTACT: R. Barthen Gorman, Media Bureau, (202) 418-2180.

SUPPLEMENTARY INFORMATION: This is a synopsis of the Commission's Notice of Proposed Rule Making, MB Docket No. 05-35, adopted February 2, 2005, and released February 4, 2005. The full text of this Commission decision is available for inspection and copying during regular business hours in the FCC's Reference Information Center at Portals II, 445 12th Street, SW., CY-A257, Washington, DC 20554. This document may also be purchased from the Commission's duplicating contractors, Best Copy and Printing, Inc., Portals II, 445 12th Street, SW., Room CY-B402, Washington, DC 20554, telephone 1-800-378-3160 or http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

The provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, See 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334, and 336.

§ 73.202 [Amended]

2. Section 73.202(b), the Table of FM Allotments under Michigan, is amended by removing Channel 291B from Jackson and adding Channel 291B to Charlotte.

Federal Communications Commission.
John A. Karousos,
Assistant Chief, Audio Division, Media Bureau.

[FR Doc. 05-3214 Filed 2-17-05; 8:45 am]

BILLING CODE 6712-01-P